DEPARTMENT OF COMMERCE

International Trade Administration

(A-570-933)

Antidumping Duty Order: Frontseating Service Valves from the People's Republic of China

AGENCY: Import Administration, International Trade Administration, Department of Commerce.

SUMMARY: Based on affirmative final determinations by the Department of Commerce (“the Department”) and the International Trade Commission (“ITC”), the Department is issuing an antidumping duty order on frontseating service valves (“FSVs”) from the People's Republic of China (“PRC”).

EFFECTIVE DATE: April 28, 2009.

FOR FURTHER INFORMATION CONTACT: Eugene Degnan at (202) 482-0414, Import Administration, International Trade Administration, U.S. Department of Commerce, 14th Street and Constitution Avenue, NW, Washington, DC 20230.

SUPPLEMENTARY INFORMATION:

Background

On March 13, 2009, the Department published the final determination of sales at less than fair value of FSVs from the PRC. See Frontseating Service Valves From the People's Republic of China: Final Determination of Sales at Less Than Fair Value and Final Negative Determination of Critical Circumstances, 74 FR 10886 (March 13, 2009) (“Final Determination”).

On March 18, 2009, Parker-Hannifin Corporation (“Petitioner”) submitted a comment alleging that the Department made a ministerial error in its calculation of the antidumping duty margin of respondent Zhejiang DunAn Hetian Metal Co., Ltd. (“DunAn”). Also on March 18, 2009, Zhejiang Sanhua Co., Ltd. (“Sanhua”) submitted a comment alleging that the Department made a ministerial error in the calculation of the antidumping duty margin of Sanhua. On March 23, 2009, Petitioner submitted a comment arguing that the error alleged by Sanhua is not a ministerial error. Also on March 23, 2009, DunAn submitted a comment arguing that the error alleged by Petitioner is not a ministerial error. On April 16, 2009, the Department determined that the allegations of ministerial errors by the Petitioner and Sanhua do not meet the requirements under section 735(e) of the Tariff Act of 1930, as amended (“the Act”), to be considered ministerial errors. See Memorandum to Wendy Frankel, “Final Determination in the Antidumping Duty Investigation of Frontseating Service Valves from the People's Republic of China: Allegations of Ministerial Errors,” dated April 16, 2009.

On April 21, 2009, the ITC notified the Department of its final determination pursuant to section 735(d) of the Act, that an industry in the United States is materially injured within the meaning of section 735(b)(1)(A)(i) of the Act by reason of less-than-fair-value imports of FSVs from the PRC. See Letter from the ITC to the Secretary of Commerce, “Notification of Final Affirmative Determination of Frontseating Service Valves from the People's Republic of China,” Investigation No. 731-TA-1148 (April 21, 2009). Pursuant to section 736(a) of the Act, the Department is publishing an antidumping duty order on the subject merchandise.

Scope of the Order

The merchandise covered by this order is frontseating service valves, assembled or unassembled, complete or incomplete, and certain parts thereof. Frontseating service valves contain a sealing surface on the front side of the valve stem that allows the indoor unit or outdoor unit to be isolated from the refrigerant stream when the air conditioning or refrigeration unit is being serviced. Frontseating service valves rely on an elastomer seal when the stem cap is removed for servicing and the stem cap metal to metal seat to create this seal to the atmosphere during normal operation.¹

¹ The frontseating service valve differs from a backseating service valve in that a backseating service valve has two sealing surfaces on the valve stem. This difference typically incorporates a valve stem on a backseating service valve to be machined of steel, where a frontseating service valve has a brass stem. The backseating service valve dual stem seal (on the back side of the stem), creates a metal to metal seal when the valve is in the open position, thus, sealing the stem from the atmosphere.

For purposes of the scope, the term “unassembled” frontseating service valve means a brazed subassembly requiring any one or more of the following processes: the insertion of a valve core pin, the insertion of a valve stem and/or O ring, the application or installation of a stem cap, charge port cap or tube dust cap. The term “complete” frontseating service valve means a product sold ready for installation into an air conditioning or refrigeration unit. The term “incomplete” frontseating service valve means a product that when sold is in multiple pieces, sections, subassemblies or components and is incapable of being installed into an air conditioning or refrigeration unit as a single, unified valve without further assembly.

The major parts or components of frontseating service valves intended to be covered by the scope under the term “certain parts thereof” are any brazed subassembly consisting of any two or more of the following components: a valve body, field connection tube, factory connection tube or valve charge port. The valve body is a rectangular block, or brass forging, machined to be hollow in the interior, with a generally square shaped seat (bottom of body). The field connection tube and factory connection tube consist of copper or other metallic tubing, cut to length, shaped and brazed to the valve body in order to create two ports, the factory connection tube and the field connection tube, each on opposite sides of the valve assembly body. The valve charge port is a service port via which a hose connection can be used to charge or evacuate the refrigerant medium or to monitor the system pressure for diagnostic purposes.

The scope includes frontseating service valves of any size, configuration, material composition or connection type. Frontseating service valves are classified under subheading 8481.80.1095, and also have been classified under subheading 8415.90.80.85, of the Harmonized Tariff Schedule of the United States (“HTSUS”). It is possible for frontseating service valves to be manufactured out of primary materials other than copper and brass, in which case they would be classified under HTSUS subheadings 8481.80.3040, 8481.80.3090, or 8481.80.5090. In addition, if unassembled or incomplete frontseating service valves are imported, the various parts or components would be classified under HTSUS subheadings 8481.90.1000, 8481.90.3000, or 8481.90.5000. The HTSUS subheadings are provided for convenience and customs purposes, but the written description of the scope of this proceeding is dispositive.

Antidumping Duty Order

In accordance with section 736(a)(1) of the Act, the Department will direct U.S. Customs and Border Protection (“CBP”) to assess, upon further information from the Department, antidumping duties equal to the amount by which the normal value of the merchandise exceeds the export price (or the constructed export price) of the merchandise for all relevant entries of FSVs from the PRC. These antidumping duties will be assessed on all entries of FSVs entered, or withdrawn from the warehouse, for consumption on or after October 22, 2008, the date on which the Department published its notice of preliminary determination in the Federal Register. See Frontseating Service Valves from the People's Republic of China: Preliminary Determination of Sales at Less Than Fair Value, Preliminary Negative Determination of Critical Circumstances, and Postponement of Final Determination, 73 FR 62952 (October 22, 2008) (“Preliminary Determination”).

Cash Deposits

On and after the date of publication of the ITC's notice of final determination in the Federal Register, CBP will require, at the same time as importers would normally deposit estimated duties on this merchandise, cash deposits for the subject merchandise equal to the estimated weighted-average antidumping margins listed below.

Exporter/Producer Combination | Percent Margin
Exporter: Zhejiang Sanhua Co., Ltd.
Producer: Zhejiang Sanhua Co., Ltd. | 28.44
Exporter: Zhejiang DunAn Hetian Metal Co., Ltd.
Producer: Zhejiang DunAn Hetian Metal Co., Ltd. | 12.95
PRC-Wide Entity | 55.62

This notice constitutes the antidumping duty order with respect to FSVs from the PRC, pursuant to section 736(a) of the Act. Interested parties may contact the Department's Central Records Unit, Room 1117 of the Main Commerce Building, for copies of an updated list of antidumping duty orders currently in effect. This order is issued and published in accordance with section 736(a) of the Act and 19 CFR 351.211(b).

Dated: April 22, 2009.
Ronald K. Lorentzen,
Acting Assistant Secretary for Import Administration.

[FR Doc. E9-9660 Filed 4-27-09; 8:45 am]

BILLING CODE 3510-DS-S